DEPARTMENT OF TRANSPORTATION

Federal Aviation Administration

14 CFR Part 71

[Docket No. FAA-2008-1046; Airspace Docket No. 08-ASW-21]

Proposed Amendment of Class E Airspace; Houston, TX

AGENCY: Federal Aviation Administration (FAA), DOT.

ACTION: Notice of proposed rulemaking.

SUMMARY: This action proposes to amend Class E airspace at Houston, TX. Additional controlled airspace is necessary to accommodate Area Navigation (RNAV) Standard Instrument Approach Procedures (SIAP) at Lone Star Executive Airport, Conroe, TX. The FAA is taking this action to enhance the safety and management of Instrument Flight Rules (IFR) aircraft operations at Lone Star Executive Airport. This action also updates the coordinates of Chambers County Airport, and reflects a name change for Scholes Field.

DATES: 0901 UTC. Comments must be received on or before January 2, 2009.

ADDRESSES: Send comments on this proposal to the U.S. Department of Transportation, Docket Operations, 1200 New Jersey Avenue, SE., West Building Ground Floor, Room W12-140, Washington, DC 20590-0001. You must identify the docket number FAA-2008-1046/Airspace Docket No. 08-ASW-21, at the beginning of your comments. You may also submit comments on the Internet at http://www.regulations.gov. You may review the public docket containing the proposal, any comments received, and any final disposition in person in the Dockets Office between 9 a.m. and 5 p.m., Monday through Friday, except Federal holidays. The Docket Office (telephone 1-800-647-5527) is on the ground floor of the building at the above address.

FOR FURTHER INFORMATION CONTACT: Scott Enander, Central Service Area, Operations Support Group, Federal Aviation Administration, Southwest Region, 2601 Meacham Blvd., Fort Worth, TX 76193-0530; telephone: (817) 222-5582.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2008-1046/Airspace Docket No. 08-ASW-21.” The postcard will be date/time stamped and returned to the commenter.

Availability of NPRMs

An electronic copy of this document may be downloaded through the Internet at http://www.regulations.gov. Recently published rulemaking documents can also be accessed through the FAA's Web page at http://www.faa.gov/airports_airtraffic/air_traffic/publications/airspace_amendments/.

Additionally, any person may obtain a copy of this notice by submitting a request to the Federal Aviation Administration (FAA), Office of Air Traffic Airspace Management, ATA-400, 800 Independence Avenue, SW., Washington, DC 20591, or by calling (202) 267-8783. Communications must identify both docket numbers for this notice. Persons interested in being placed on a mailing list for future NPRMs should contact the FAA's Office of Rulemaking (202) 267-9677, to request a copy of Advisory Circular No. 11-2A, Notice of Proposed Rulemaking Distribution System, which describes the application procedure.

The Proposal

This action proposes to amend Title 14, Code of Federal Regulations (14 CFR), Part 71 by amending the Class E airspace area for IFR operations at Houston, TX. The RNAV SIAPs at Lone Star Executive Airport, Conroe, TX, have made this action necessary. The area would be depicted on appropriate aeronautical charts. Additionally, this action reflects the name change for Scholes Field, and the coordinates for Chambers County Airport would be updated.

Class E airspace areas are published in Paragraph 6005 of FAA Order 7400.9S, dated October 3, 2008, and effective October 31, 2008, which is incorporated by reference in 14 CFR 71.1. The Class E airspace designation listed in this document would be published subsequently in the Order.

The FAA has determined that this proposed regulation only involves an established body of technical regulations for which frequent and routine amendments are necessary to keep them operationally current. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act. The FAA's authority to issue rules regarding aviation safety is found in Title 49 of the U.S. Code. Subtitle 1, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace in the Houston, TX, area.

List of Subjects in 14 CFR Part 71

Airspace, Incorporation by reference, Navigation (Air).

The Proposed Amendment

In consideration of the foregoing, the Federal Aviation Administration proposes to amend 14 CFR Part 71 as follows:

PART 71—DESIGNATION OF CLASS A, B, C, D, AND E AIRSPACE AREAS; AIRWAYS; ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9S, Airspace Designations and Reporting Points, dated October 3, 2008, and effective October 31, 2008, is amended as follows:

Paragraph 6005 Class E Airspace areas extending upward from 700 feet or more above the surface of the earth.

* * * * *

ASW TX E5 Houston, TX [Amended]

Point of Origin

(Lat. 30°35′01″ N., long. 95°28′01″ W.)

Anahuac, Chambers County Airport, TX

(Lat. 29°46′11″ N., long. 94°39′49″ W.)

Galveston, Scholes International at Galveston, TX

(Lat. 29°15′55″ N., long. 94°51′38″ W.)

Brookshire, Woods No. 2 Airport, TX

(Lat. 29°47′37″ N., long. 95°55′31″ W.)

Fulshear, Covey Trails Airport, TX

(Lat. 29°41′24″ N., long. 95°50′23″ W.)

Conroe, Lone Star Executive Airport, TX

(Lat. 30°21′09″ N., long. 95°24′52″ W.)

That airspace extending upward from 700 feet above the surface within an area bounded by a line beginning at the Point of Origin to lat. 29°45′00″ N., long. 94°44′01″ W.; thence from lat. 29°45′00″ N., long. 94°44′01″ W. to a point of tangency with the east arc of a 7.6-mile radius of Scholes International at Galveston, and within a 7.6-mile radius of Scholes International at Galveston; thence from lat. 29°17′04″ N., long. 95°00′13″ W.; to lat. 29°30′01″ N., long. 95°54′01″ W.; to lat. 30°26′01″ N., long. 95°42′01″ W.; to the point of origin, and within a 6.6-mile radius of Lone Star Executive Airport, and within a 6.5-mile radius of Woods No. 2 Airport, and within a 6.4-mile radius of Covey Trails Airport excluding that airspace within the Anahuac, TX, Class E airspace area.

* * * * *

Issued in Fort Worth, TX, on November 6, 2008.
Robert Beeman,
Acting Manager, Operations Support Group, ATO Central Service Area.

[FR Doc. E8-27150 Filed 11-14-08; 8:45 am]

BILLING CODE 4910-13-P